DEPARTMENT OF ENERGY

Federal Energy Regulatory Commission

Notice of Staff Attendance at Southwest Power Pool Regional Entity Trustee, Regional State Committee and Board of Directors Meetings

January 18, 2011.

The Federal Energy Regulatory Commission hereby gives notice that members of its staff may attend the meetings of the Southwest Power Pool, Inc. (SPP) Regional Entity Trustee (RE), Regional State Committee (RSC) and Board of Directors, as noted below. Their attendance is part of the Commission's ongoing outreach efforts.

All meetings will be held at the Doubletree Hotel, 300 Canal Street, New Orleans, LA 70130. The hotel phone number is (504) 581-1300.

SPP RE

January 24, 2011 (8:30 a.m.-2 p.m.)

SPP RSC

January 24, 2011 (1 p.m.-5 p.m.)

SPP Board of Directors

January 25, 2011 (8 a.m.-3 p.m.)

The discussions may address matters at issue in the following proceedings:

Docket No. ER06-451, Southwest Power Pool, Inc.

Docket No. ER08-1419, Southwest Power Pool, Inc.

Docket No. ER09-35, Tallgrass Transmission LLC

Docket No. ER09-36, Prairie Wind Transmission LLC

Docket No. ER09-659, Southwest Power Pool, Inc.

Docket No. ER09-1050, Southwest Power Pool, Inc.

Docket No. OA08-61, Southwest Power Pool, Inc.

Docket No. OA08-104, Southwest Power Pool, Inc.

Docket No. ER10-659, Southwest Power Pool, Inc

Docket No. ER10-696, Southwest Power Pool, Inc.

Docket No. ER10-941, Southwest Power Pool, Inc.

Docket No. ER10-1069, Southwest Power Pool, Inc.

Docket No. ER10-1254, Southwest Power Pool, Inc.

Docket No. ER10-1269, Southwest Power Pool, Inc.

Docket No. ER10-1697, Southwest Power Pool, Inc.

Docket No. ER10-1960, Southwest Power Pool, Inc.

Docket No. ER10-2244, Southwest Power Pool, Inc.

Docket No. ER11-13, Southwest Power Pool, Inc.

Docket No. ER11-2071, Southwest Power Pool, Inc.

Docket No. ER11-2101, Southwest Power Pool, Inc.

Docket No. ER11-2103, Southwest Power Pool, Inc.

Docket No. ER11-2188, Southwest Power Pool, Inc.

Docket No. ER11-2190, Southwest Power Pool, Inc.

Docket No. ER11-2194, Southwest Power Pool, Inc.

Docket No. ER11-2198, Southwest Power Pool, Inc.

Docket No. ER11-2103, Southwest Power Pool, Inc.

Docket No. ER11-2188, Southwest Power Pool, Inc.

Docket No. ER11-2190, Southwest Power Pool, Inc.

Docket No. ER11-2194, Southwest Power Pool, Inc.

Docket No. ER11-2198, Southwest Power Pool, Inc.

Docket No. ER11-2205, Southwest Power Pool, Inc.

Docket No. ER11-2220, Southwest Power Pool, Inc.

Docket No. ER11-2291, Southwest Power Pool, Inc.

Docket No. ER11-2303, Southwest Power Pool, Inc.

Docket No. ER11-2308, Southwest Power Pool, Inc.

Docket No. ER11-2309, Southwest Power Pool, Inc.

Docket No. ER11-2315, Southwest Power Pool, Inc.

Docket No. ER11-2317, Southwest Power Pool, Inc.

Docket No. ER11-2345, Southwest Power Pool, Inc.

Docket No. ER11-2385, Southwest Power Pool, Inc.

Docket No. ER11-2401, Southwest Power Pool, Inc.

Docket No. ER11-2415, Southwest Power Pool, Inc.

Docket No. ER11-2425, Southwest Power Pool, Inc.

Docket No. ER11-2428, Southwest Power Pool, Inc.

Docket No. ER11-2525, Southwest Power Pool, Inc.

Docket No. ER11-2528, Southwest Power Pool, Inc.

Docket No. ER11-2619, Southwest Power Pool, Inc.

These meetings are open to the public.

For more information, contact Patrick Clarey, Office of Energy Market Regulation, Federal Energy Regulatory Commission at (317) 249-5937 or patrick.clarey@ferc.gov.

Kimberly D. Bose,
Secretary.

[FR Doc. 2011-1569 Filed 1-25-11; 8:45 am]

BILLING CODE 6717-01-P